SECURITIES AND EXCHANGE COMMISSION

[Release No. 34-89592; File No. SR-NYSENAT-2020-05]

Self-Regulatory Organizations; NYSE National, Inc.; Notice of Designation of a Longer Period for Commission Action on Proceedings to Determine Whether to Approve or Disapprove a Proposed Rule Change to Establish Fees for the NYSE National Integrated Feed

August 18, 2020.

On February 3, 2020, NYSE National, Inc. (“NYSE National”) filed with the Securities and Exchange Commission (“Commission”), pursuant to Section 19(b)(1) of the Securities Exchange Act of 1934 (“Act”) ¹ and Rule 19b-4 thereunder,² a proposed rule change to establish fees for the NYSE National Integrated Feed. The proposed rule change was immediately effective upon filing with the Commission pursuant to Section 19(b)(3)(A) of the Act.³ The proposed rule change was published for comment in the Federal Register on February 20, 2020.⁴ On April 1, 2020, the Division of Trading and Markets, for the Commission pursuant to delegated authority, temporarily suspended the proposed rule change and instituted proceedings to determine whether to approve or disapprove the proposed rule change.⁵ On June 12, 2020, the Commission issued a request for information and additional comment on the proposed rule change.⁶

¹ 15 U.S.C. 78s(b)(1).

² 17 CFR 240.19b-4.

³ 15 U.S.C. 78s(b)(3)(A).

⁴ See Securities Exchange Act Release No. 88211 (February 14, 2020), 85 FR 9847.

⁵ See Securities Exchange Act Release No. 88538, 85 FR 19541 (April 7, 2020).

⁶ See Securities Exchange Act Release No. 89065, 85 FR 37123 (June 19, 2020). Comments received on the proposed rule change are available on the Commission's website at: https://www.sec.gov/comments/sr-nysenat-2020-05/srnysenat202005.htm.

Section 19(b)(2) of the Act ⁷ provides that, after initiating disapproval proceedings, the Commission shall issue an order approving or disapproving the proposed rule change not later than 180 days after the date of publication of notice of filing of the proposed rule change. The Commission may extend the period for issuing an order approving or disapproving the proposed rule change, however, by not more than 60 days if the Commission determines that a longer period is appropriate and publishes the reasons for such determination. The date of publication of notice of filing of the proposed rule change was February 20, 2020. August 18, 2020, is 180 days from that date, and October 17, 2020, is 240 days from that date.

⁷ 15 U.S.C. 78s(b)(2).

The Commission finds it appropriate to designate a longer period within which to issue an order approving or disapproving the proposed rule change so that it has sufficient time to consider this proposed rule change. Accordingly, the Commission, pursuant to Section 19(b)(2) of the Act,⁸ designates October 17, 2020, as the date by which the Commission shall either approve or disapprove the proposed rule change (File No. SR-NYSENAT-2020-05).

⁸ Id.

For the Commission, by the Division of Trading and Markets, pursuant to delegated authority.⁹
⁹ 17 CFR 200.30-3(a)(57).
J. Matthew DeLesDernier,
Assistant Secretary.

[FR Doc. 2020-18463 Filed 8-21-20; 8:45 am]

BILLING CODE 8011-01-P